TRADE AND DEVELOPMENT AGENCY

Notice of Public Information Collection Requirements Submitted to OMB for Review

AGENCY: United States Trade and Development Agency.

ACTION: Request for comments.

SUMMARY: USTDA invites the general public and other Federal agencies to take this opportunity to comment on the following proposed information collection, as required by the Paperwork Reduction Act of 1995. Comments are requested concerning: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology, e.g., permitting electronic submission of responses.

DATES: Comments must be received by November 23, 2009.

ADDRESSES: Copies of the subject form and the request for review prepared for submission to OMB may be obtained from the Agency Submitting Officer. Comments on the form should be submitted to the Agency Submitting Officer.

FOR FURTHER INFORMATION CONTACT: Carolyn Hum, Administrative Officer, Attn: PRA, U.S. Trade and Development Agency, 1000 Wilson Boulevard, Suite 1600, Arlington, VA 22209-3901; Tel.: (703) 875-4357, Fax: (703) 656-4810; E-mail: PRA@ustda.gov.

SUPPLEMENTARY INFORMATION:

Summary Collection Under Review

Type of Request: Reinstatement, with change, of a previously approved collection for which approval has expired.

Title: Evaluation of USTDA Performance.

Form Number: USTDA 1000E-2009a.

Frequency of Use: annually for duration of project.

Type of Respondents: Business or other for profit; Not-for-profit institutions; Farms; Federal Government.

Description of Affected Public: U.S. companies and other entities that participate in USTDA-funded activities.

Reporting Hours: 1,000 hours per year.

Number of Responses: 3,000 per year.

Federal Cost: $425,000 per year.

Authority for Information Collection: Government Performance and Results Act of 1993 103 Public Law 62; 107 Stat. 285.

Abstract (Needs and Uses): USTDA and contractors will collect information from various stakeholders on USTDA-funded activities regarding developmental impact and/or commercial objectives as well as evaluate success regarding GPRA and OMB PART objectives.

Dated: September 18, 2009.
Carolyn Hum,
Administrative Officer.

[FR Doc. E9-23023 Filed 9-23-09; 8:45 am]

BILLING CODE 8040-01-P